DEPARTMENT OF THE INTERIOR

National Park Service

Announcement of Subsistence Resource Commission Meeting

AGENCY: National Park Service, Interior.

SUMMARY: The Superintendent of Lake Clark National Park and Preserve and the Chair of the Lake Clark Subsistence Resource Commission announce a forthcoming meeting of the Subsistence Resource Commission for Lake Clark National Park.

The following agenda items will be discussed:

(1) Call to order.

(2) Roll call—Confirm Quorum.

(3) Introductions.

(4) Superintendent's Welcome.

(5) Additions, corrections and agenda approval.

(6) Approval of SRC meeting minutes.

(7) SRC Purpose and Role.

(8) Status of Membership.

(9) Park Subsistence Coordinator's Report.

(10) Report on October 1999 Chair Workshop.

(11) Old Business.

(a) Status of Lake Clark Subsistence Management Plan.

(b) 1999 Federal Subsistence Board Action—Proposal #35 Unit 9B Moose.

(12) New Business.

(a) Update on 2000-2001Federal Subsistence Board Proposals.

(i) Proposal #31—Unit 9B Brown Bear.

(ii) Proposal #32—Unit 9B Black Bear/Brown Bears.

(iii) Proposal #39—Unit 9B Beaver.

(13) Federal Subsistence Fisheries Management Report.

(14) Agency Reports and Public Comments.

(15) Election of Officers.

(a) Chair.

(b) Vice Chair.

(16) SRC Work Session—Prepare correspondence/recommendations.

(17) Set time and place of next meeting.

(18) Adjournment.

DATES: The meeting will begin at 10 am on Thursday, February 3, 2000 and conclude around 4:30 pm.

LOCATION: The meeting will be held at the Nondalton Community Hall, Nondalton, Alaska. Phone (907) 294-2288.

FOR FURTHER INFORMATION CONTACT: Lee Fink, Chief of Operations, 4230 University Drive, Suite 311, Anchorage, Alaska 99508, Phone (907) 271-3751; or Karen Stickman, Subsistence Coordinator, 1 Park Place, Port Alsworth, Alaska 99653, Phone (907) 781-2218.

SUPPLEMENTARY INFORMATION: The Subsistence Resource Commissions are authorized under Title VIII, Section 808, of the Alaska National Interest Lands Conservation Act, Pub. L. 96-487, and operate in accordance with the provisions of the Federal Advisory Committees Act. Note that under the Freedom of Information Act (FOIA), transcripts of any person giving public comments may be made available under a FOIA request.

Paul Anderson,
Deputy Regional Director.

[FR Doc. 00-2026 Filed 1-28-00; 8:45 am]

BILLING CODE 4310-70-P